FEDERAL COMMUNICATIONS COMMISSION

47 CFR Part 54

[WC Docket No. 10-90; FCC 16-33, 16-64, and 16-143]

Connect America Fund

AGENCY: Federal Communications Commission.

ACTION: Final rule; announcement of effective date.

SUMMARY: In this document, the Federal Communications Commission (Commission) announces that the Office of Management and Budget (OMB) has approved, for a period of three years, an information collection associated with the Commission's Connect America Fund, Report and Order, Order and Order on Reconsideration, April 25, 2016, Report and Order, July 7, 2016, and Order, November 22, 2016 (collectively, Orders). The Commission submitted new information collection requirements for review and approval by OMB, as required by the Paperwork Reduction Act (PRA) of 1995, December 30, 2016, which were approved by the OMB on February 27, 2017. This notice is consistent with the Orders, which stated that the Commission would publish a document in the Federal Register announcing the effective date of new information collection requirements.

DATES: The rules associated with the Orders related to certain high-cost carriers' obligation to report broadband location information where they have deployed facilities meeting their public interest obligations, as well as associated certifications and quarterly reports, published at 81 FR 24282, April 25, 2016, 81 FR 44414, July 7, 2016, and 81 FR 83706, November 22, 2016, as well as 47 CFR 54.316 and 54.320(d) are effective March 22, 2017.

FOR FURTHER INFORMATION CONTACT: Jonathan Lechter, Wireline Competition Bureau at (202) 418-7400 or TTY (202) 418-0484.

SUPPLEMENTARY INFORMATION: This document announces that, on February 27, 2017, OMB approved, for a period of three years, the information collection requirements contained in the Commission's Orders, FCC 16-33, published at 81 FR 24282, April 25, 2016, FCC 16-64, published at 81 FR 44414, July 7, 2016, and FCC 16-143, published at 81 FR 83706, November 22, 2016. The OMB Control Number is 3060-1228. The Commission publishes this notice as an announcement of the effective date of the rules associated with the Orders related to certain high-cost carriers' obligation to report broadband location information where they have deployed facilities meeting their public interest obligations, as well as associated certifications and quarterly reports, published at 81 FR 24282, April 25, 2016, 81 FR 44414, July 7, 2016 (Phase II Auction Order), and 81 FR 83706, November 22, 2016, as well as 47 CFR 54.316 and 54.320(d). If you have any comments on the burden estimates listed below, or how the Commission can improve the collections and reduce any burdens caused thereby, please contact Nicole Ongele, Federal Communications Commission, Room 1-A620, 445 12th Street SW., Washington, DC 20554. Please include the OMB Control Number, 3060-1228, in your correspondence. The Commission will also accept your comments via email please send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on February 27, 2017, for the rules associated with t the Orders related to certain high-cost carriers' obligation to report broadband location information where they have deployed facilities meeting their public interest obligations, as well as associated certifications and quarterly reports, published at 81 FR 24282, April 25, 2016, 81 FR 44414, July 7, 2016, and 81 FR 83706, November 22, 2016, as well as 47 CFR 54.316 and 54.320(d). Under 5 CFR 1320, an agency may not conduct or sponsor a collection of information unless it displays a current, valid OMB Control Number. No person shall be subject to any penalty for failing to comply with a collection of information subject to the Paperwork Reduction Act that does not display a current, valid OMB Control Number. The OMB Control Number is 3060-1228.

The foregoing notice is required by the Paperwork Reduction Act of 1995, Public Law 104-13, October 1, 1995, and 44 U.S.C. 3507.

The total annual reporting burdens and costs for the respondents are as follows:

OMB Control Number: 3060-1228.

OMB Approval Date: February 27, 2017.

OMB Expiration Date: February 29, 2020.

Title: Connect America Fund—High Cost Portal Filing.

Form No.: N/A.

Respondents: Business or other for-profit.

Number of Respondents and Responses: 1,526 unique respondents; 3,595 responses.

Estimated Time per Response: 8 hours-30 hours.

Frequency of Response: On occasion, quarterly reporting requirements, annual reporting requirements, one-time reporting requirement and recordkeeping requirement.

Obligation To Respond: Required to obtain or retain benefits. Statutory authority for this information collection is contained in 47 U.S.C. 151-154, 155, 201-206, 214, 218-220, 251, 252, 254, 256, 303(r), 332, 403, 405, 410, and 1302.

Total Annual Burden: 65,713 hours.

Total Annual Cost: No Cost.

Nature and Extent of Confidentiality: We note that USAC must preserve the confidentiality of certain data obtained from respondents; must not use the data except for purposes of administering the universal service programs or other purposes specified by the Commission; and must not disclose data in company-specific form unless directed to do so by the Commission. Respondents may request materials or information submitted to the Commission or the Administrator believed confidential to be withheld from public inspection under 47 CFR 0.459 of the FCC's rules.

Needs and Uses: This information collection addresses the requirement that certain carriers with high cost reporting obligations must file information about their locations which meet their broadband deployment public interest obligations via an electronic portal (“portal”). The Rate-of-Return Order required that the Universal Service Administrative Company (USAC) establish the portal so that carriers could file their location data with the portal starting in 2017. The Rate-of-Return Order required all recipients of Phase II model-based support and rate-of-return carriers to submit geocoded location data and related certifications to the portal. Recipients of Phase II model-based support had been required to file such information in their annual reports due by July 1. The Phase II Auction Order requires auction winners to build-out networks capable of meeting their public interest obligations and report, to an online portal, locations to which auction winners had deployed such networks. The ACS Phase II Order requires Alaska Communications Systems (ACS), a recipient of Phase II frozen support, to comply with the reporting, certification and non-compliance measures similar to those previously adopted for ETCs electing Phase II model-based support. For the same reason, the Commission also adopted a cost certification requirement for certain locations. This collection also implements the Rate-of-Return Order by moving and revising the currently approved requirements under OMB Control Numbers 3060-1200 and 3060-0986 to enable recipients of Phase II model-based support and rural broadband experiment funding to file their location information and associated reports and certifications in the portal instead of on the FCC Form 481 or as is currently required.

Federal Communications Commission.
Marlene H. Dortch,
Secretary.

[FR Doc. 2017-05654 Filed 3-21-17; 8:45 am]

BILLING CODE 6712-01-P